DEPARTMENT OF COMMERCE

Bureau of Industry and Security

President's Export Council Subcommittee on Export Administration; Notice of Meeting

The President's Export Council Subcommittee on Export Administration (PECSEA) will meet on March 19, 2015, 10:00 a.m., at the U.S. Department of Commerce, Herbert C. Hoover Building, Room 3884, 14th Street between Pennsylvania and Constitution Avenues NW., Washington, DC The PECSEA provides advice on matters pertinent to those portions of the Export Administration Act, as amended, that deal with United States policies of encouraging trade with all countries with which the United States has diplomatic or trading relations and of controlling trade for national security and foreign policy reasons.

Agenda

1. Opening remarks by the Chairman and Vice Chairman.

2. Export Control Reform Update.

3. Presentation of Papers or Comments by the Public.

4. Data Transmission and Security Subcommittee Presentation.

5 Process Improvements and Trusted Trader Subcommittee Presentation.

6. Outreach Subcommittee Update.

7. Impact of ECR on BIS and State Licensing and Exports.

8. Sustaining Exporter Engagement in an Integrated List Review Process.

The open session will be accessible via teleconference to 20 participants on a first come, first serve basis. To join the conference, submit inquiries to Ms. Yvette Springer at Yvette.Springer@bis.doc.gov, no later than, March 12, 2015.

A limited number of seats will be available for the public session. Reservations are not accepted. To the extent time permits, members of the public may present oral statements to the PECSEA. Written statements may be submitted at any time before or after the meeting. However, to facilitate distribution of public presentation materials to PECSEA members, the PECSEA suggests that public presentation materials or comments be forwarded before the meeting to Ms. Yvette Springer at Yvette.Springer@bis.doc.gov.

For more information, contact Yvette Springer on 202-482-2813.

Dated: February 25, 2015.
Yvette Springer,
Committee Liaison Officer.

[FR Doc. 2015-04285 Filed 2-27-15; 8:45 am]

BILLING CODE 3510-JT-P